DEPARTMENT OF DEFENSE

Department of the Air Force

Air Force A-76 Initiatives Cost Comparisons and Direct Conversions (As of 31 December 1999)

The Air Force is in the process of conducting the following A-76 initiatives. Cost comparisons are public-private competitions. Direct conversions are functions that may result in a conversion to contract without public competition. These initiatives were announced and in-progress as of 31 December 1999, include the installation and state where the cost comparison or direct conversion is being performed, the total authorizations under study, public announcement date and actual or anticipated solicitation date. The following initiatives are in various stages of completion.

Installation | State | Function(s) | Total authorizations | Public announcement date | Solicitation issued or scheduled date
COST COMPARISONS
ANDERSEN | GUAM | SUPPLY AND TRANSPORTATION | 317 | 25-Jun-98 | 28-May-99
ANDREWS | MD | AIRCRAFT MAINTENANCE AND SUPPLY | 815 | 25-Jul-97 | 26-May-99
ANDREWS | MD | GROUNDS MAINTENANCE | 9 | 17-Dec-98 | 22-Feb-00
ANDREWS | MD | HEATING SYSTEMS | 22 | 17-Dec-98 | 15-Jan-00
ANDREWS | MD | COMMUNICATION FUNCTIONS | 181 | 04-Oct-99 | 11-May-01
BARKSDALE | LA | PROTECTIVE COATING | 13 | 14-Dec-98 | 21-Jan-00
BEALE | CA | BASE OPERATING SUPPORT | 383 | 08-Sep-99 | 07-Mar-01
BOLLING | DC | SUPPLY AND TRANSPORTATION | 164 | 01-Dec-98 | 15-Jan-00
CARSWELL | TX | BASE OPERATING SUPPORT | 69 | 13-Jun-96 | 30-Dec-99
CHEYENNE MTN | CO | CIVIL ENGINEERING | 139 | 08-May-98 | 24-Sep-99
DOVER | DE | HEATING SYSTEMS | 11 | 07-Jan-99 | 03-Jan-00
EDWARDS | CA | BASE OPERATING SUPPORT | 553 | 09-Dec-98 | 08-Nov-00
EDWARDS | CA | TRANSIENT AIRCRAFT MAINTENANCE/AEROSPACE GROUND EQUIPMENT | 146 | 06-Nov-98 | 06-Jan-00
EGLIN | FL | ADMINISTRATIVE SUPPORT | 52 | 22-Sep-99 | 01-Dec-00
EGLIN | FL | CIVIL ENGINEERING | 200 | 03-Dec-96 | 21-Jul-98
EIELSON | AK | COMMUNICATIONS OPERATIONS AND MAINTENANCE | 63 | 29-Oct-99 | 25-Apr-00
ELMENDORF | AK | BASE SUPPLY | 213 | 26-Mar-99 | 17-Jan-00
FAIRCHILD | WA | HEATING SYSTEMS | 15 | 16-Mar-99 | 31-Oct-99
GREATER PITTSBURG | PA | BASE OPERATING SUPPORT | 77 | 13-Jun-96 | 10-Nov-99
GRISSOM | IN | BASE OPERATING SUPPORT | 133 | 13-Jun-96 | 01-Oct-99
HANSCOM AFB | MA | EDUCATION/TRAINING AND PERSONNEL | 14 | 25-Nov-98 | 15-Feb-00
HANSCOM AFB | MA | CIVIL ENGINEERING | 201 | 09-Dec-98 | 15-Feb-00
HANSCOM AFB | MA | BASE SUPPLY | 70 | 10-Nov-98 | 15-Feb-00
HILL AFB | UT | BASE OPERATING SUPPORT | 576 | 30-Sep-98 | 20-Sep-00
HOLLOMAN AFB | NM | MILITARY FAMILY HOUSING MAINTENANCE | 66 | 12-May-97 | 14-Jan-00
HOLLOMAN AFB | NM | TEST TRACK | 125 | 18-Nov-99 | 01-Apr-00
HOMESTEAD | FL | BASE OPERATING SUPPORT | 106 | 13-Jun-96 | 15-Jan-00
HURLBURT COM FL | FL | COMMUNICATION FUNCTIONS | 50 | 31-Jul-98 | 19-Jun-00
HURLBURT COM FL | FL | ADMINISTRATIVE SUPPORT | 41 | 28-Apr-99 | 09-Mar-01
HURLBURT COM FL | FL | BASE SUPPLY | 43 | 15-Jul-98 | 21-Jan-00
KEESLER | MS | MULTIPLE SUPPORT FUNCTIONS | 726 | 21-Sep-99 | TBD
KIRTLAND | NM | BASE COMMUNICATIONS | 228 | 06-Nov-97 | 04-Jun-99
KIRTLAND | NM | ENVIRONMENTAL | 32 | 24-Nov-98 | 17-Mar-00
LACKLAND | TX | MULTIPLE SUPPORT FUNCTIONS | 1587 | 26-Jan-99 | 09-Aug-99
LANGLEY | VA | GENERAL LIBRARY | 11 | 22-Dec-98 | 02-Feb-00
MALMSTROM | MT | BASE COMMUNICATIONS | 85 | 06-Oct-97 | 15-Feb-00
MARCH | CA | BASE OPERATING SUPPORT | 195 | 13-Jun-96 | 15-Nov-99
MAXWELL | AL | MULTIPLE SUPPORT FUNCTIONS | 814 | 28-Apr-98 | 22-Mar-99
MCCHORD | WA | GROUNDS MAINTENANCE | 11 | 14-Jun-99 | 05-Jun-00
MULTIPLE INSTLNS |  | ADMINISTRATIVE SWITCHBOARD | 44 | 19-Jun-97 | 15-Feb-00
CROUGHTON | UK
FAIRFORD | UK
LAKENHEATH | UK
MILDENHALL | UK
MOLESWORTH | UK
MULTIPLE INSTLNS |  | TRANSIENT AIRCRAFT MAINTENANCE | 15 | 07-Jul-99 | 01-Apr-00
LAKENHEATH | UK
MILDENHALL | UK
MULTIPLE INSTLNS |  | EDUCATION SERVICES | 153 | 07-Jan-99 | 21-Jan-00
HOWARD | PANMA
MOODY | GA |
MINOT | ND |
MT HOME | ID
NELLIS | NV
SHAW | SC
WHITEMAN | MO
LAJES | AJORE
ELLSWORTH | SD
SEYMOUR JOHNSON | NC
HOLLOMAN AFB | NM
DYESS | TX
DAVIS MONTHAN | AZ
CANNON | NM
BARKSDALE | LA
KEFLAVIK | ICELD
LANGLEY | VA
BEALE | CA
MULTIPLE INSTLNS |  | PRECISION MEASUREMENT EQUIPMENT LABORATORY (PMEL) | 1516 | 24-Sep-98 | 29-Oct-99
MULTIPLE INSTLNS |  | COMMUNICATION FUNCTIONS | 208 | 03-Aug-99 | 01-May-00
LANGLEY | VA
HILL AFB | UT
MULTIPLE INSTLNS |  | TRANSIENT AIRCRAFT MAINTENANCE | 24 | 07-Jul-99 | 01-Apr-00
RAMSTEIN | GERMY
SPANGDAHLEM | GERMY
MULTIPLE INSTLNS |  | COMMUNICATION FUNCTIONS | 141 | 11-Mar-99 | 29-Feb-00
GENERAL MITCHELL | WI
WESTOVER | MA
MINN-ST PAUL | MN
YOUNGSTOWN | OH
WILLOW GROVE | PA
GRISSOM | IN
PITTSBURG | PA
MARCH | CA
HOMESTEAD | FL
CARSWELL | TX
NEW ORLEANS | LA
MULTIPLE INSTLNS |  | MULTIPLE SUPPORT FUNCTIONS | 124 | 14-Jul-99 | 30-Dec-00
CROUGHTON | UK
FAIRFORD | UK
MOLESWORTH | UK
MULTIPLE INSTLNS |  | ADMINISTRATIVE SWITCHBOARD | 50 | 19-Jun-97 | 15-Feb-00
RAMSTEIN | GERMY
SEMBACH | GERMY
SPANGDAHLEM | GERMY
NEW BOSTON | NH | BASE OPERATING SUPPORT | 48 | 03-Dec-97 | 01-Mar-00
NEW ORLEANS NAS | LA | BASE OPERATING SUPPORT | 45 | 13-Jun-96 | 01-Dec-99
OFFUTT | NE | BASE OPERATING SUPPORT | 1608 | 30-Sep-98 | 01-Mar-00
PATRICK | FL | SUPPLY AND TRANSPORTATION | 43 | 14-May-98 | 12-Jun-00
ROBINS | GA | ADMINISTRATIVE TELEPHONE SWITCHBOARD | 17 | 17-Mar-99 | 21-Mar-00
ROBINS | GA | BASE SUPPLY | 133 | 01-Apr-99 | 21-Apr-00
ROBINS | GA | EDUCATION SERVICES | 57 | 07-Jan-99 | 15-Feb-00
SCOTT | IL | ADMINISTRATIVE SWITCHBOARD | 86 | 05-Aug-99 | TBD
SCOTT | IL | MEDICAL FACILITY MAINTENANCE | 8 | 09-Jan-98 | 05-Aug-98
SCOTT | IL | COMMUNICATIONS OPERATIONS AND MAINTENANCE FUNCTIONS | 178 | 19-Mar-98 | 16-Aug-99
SCOTT | IL | PERSONNEL SERVICES | 236 | 25-Jun-99 | 19-Feb-01
SEMBACH | GERMY | COMMUNICATION FUNCTIONS | 48 | 18-Dec-98 | 21-Feb-00
SHEPPARD | TX | MULTIPLE SUPPORT FUNCTIONS | 540 | 21-Sep-99 | 29-Jun-00
TINKER | OK | ENVIRONMENTAL | 53 | 24-Nov-98 | 12-Nov-99
TINKER | OK | CIVIL ENGINEERING | 567 | 15-Apr-97 | 26-Mar-98
TINKER | OK | EDUCATION SERVICES | 54 | 16-Nov-98 | 17-Nov-99
TINKER | OK | BASE SUPPLY | 152 | 30-Nov-98 | 08-Oct-99
TRAVIS | CA | VEHICLE OPERATIONS AND MAINTENANCE | 131 | 15-Jul-98 | 25-Jan-00
USAF ACADEMY | CO | BASE OPERATING SUPPORT | 108 | 08-May-98 | 15-Jan-00
USAF ACADEMY | CO | CIVIL ENGINEERING | 497 | 01-Dec-98 | 01-Mar-00
USAF ACADEMY | CO | COMMUNICATION FUNCTIONS | 120 | 20-May-99 | 19-May-00
USAF ACADEMY | CO | FOOD SERVICES | 297 | 08-May-98 | 21-Apr-99
USAF ACADEMY | CO | SERVICES ACTIVITIES | 75 | 08-May-98 | 17-Sep-99
WHITEMAN | MO | UTILITIES PLANT | 11 | 18-Aug-99 | 14-Sep-00
WILLOW GROVE | PA | BASE OPERATING SUPPORT | 52 | 13-Jun-96 | 28-Sep-98
WRIGHT PATTERSON | OH | LABORATORY SUPPORT SERVICES | 127 | 21-Aug-98 | 29-Oct-99
WRIGHT PATTERSON | OH | CIVIL ENGINEERING | 698 | 15-Aug-97 | 27-Aug-99
WRIGHT PATTERSON | OH | COMMUNICATION FUNCTIONS | 319 | 21-Aug-98 | 29-Oct-99
WRIGHT PATTERSON | OH | CIVIL ENGINEERING | 104 | 21-Aug-98 | 03-Mar-00
YOUNGSTOWN MUNI | OH | BASE OPERATING SUPPORT | 92 | 13-Jun-96
14-Sep-98
DIRECT CONVERSIONS
ANDERSEN | GUAM | AIR TRAFFIC CONTROL | 12 | 14-Sep-99 | 27-May-00
ANDREWS | MD | MEDICAL FACILITY MAINTENANCE | 11 | 09-Oct-97 | 22-Sep-99
ASHEVILLE | NC | COMPUTER SYSTEMS MAINTENANCE | 10 | 17-Feb-99 | 30-Apr-00
BARKSDALE | LA | ADMINISTRATIVE SWITCHBOARD | 10 | 04-Aug-98 | 22-Nov-99
BEALE | CA | ADMINISTRATIVE SWITCHBOARD | 10 | 07-Jul-99 | 30-Nov-99
CANNON | NM | TRANSIENT AIRCRAFT MAINTENANCE/AEROSPACE GROUND EQUIPMENT | 13 | 27-Aug-98 | 15-Dec-99
CANNON | NM | PROTECTIVE COATING | 2 | 07-Jan-99 | 03-Jan-00
CHEYENNE MTN | CO | COMMUNICATION FUNCTIONS | 385 | 08-May-98 | 01-Dec-99
DAVIS MONTHAN | AZ | PROTECTIVE COATING | 9 | 24-Jun-98 | 01-Feb-00
DAVIS MONTHAN | AZ | RAILROAD TRANSPORTATION SERVICES | 2 | 11-Aug-98 | 14-Feb-00
DYESS | TX | ADMINISTRATIVE TELEPHONE SWITCHBOARD | 9 | 12-Nov-98 | 15-Dec-99
ELLSWORTH | SD | GENERAL LIBRARY | 7 | 16-Jul-98 | 19-Nov-99
ELLSWORTH | SD | ENVIRONMENTAL | 7 | 05-Nov-98 | 23-Dec-98
F E WARREN | WY | BASE COMMUNICATIONS | 105 | 30-Oct-97 | 10-Apr-00
GRAND FORKS | ND | MUNITIONS MAINTENANCE | 5 | 17-May-99 | 13-Oct-00
HICKAM | HI | AIR MOBILITY OPERATIONS CONTROL CENTER (AMOCC) | 54 | 29-Oct-99 | 01-May-00
KIRTLAND | NM | FOOD SERVICES | 15 | 29-Oct-99 | 03-Apr-00
KIRTLAND | NM | RECREATIONAL SUPPORT | 9 | 12-Jan-99 | 17-Mar-00
KIRTLAND | NM | GENERAL LIBRARY | 4 | 12-Jan-99 | 15-Mar-00
KIRTLAND | NM | CIVIL ENGINEERING | 360 | 09-Dec-98 | 17-Jan-00
KIRTLAND | NM | EDUCATION SERVICES | 12 | 26-Oct-98 | 31-Jan-00
KIRTLAND | NM | AIRCRAFT MAINTENANCE | 165 | 05-Nov-99 | TBD
LACKLAND | TX | FOOD SERVICES | 20 | 20-Dec-99 | TBD
LANGLEY | VA | GROUNDS MAINTENANCE | 9 | 04-May-99 | 20-Aug-99
LANGLEY | VA | COMMUNICATION FUNCTIONS | 8 | 23-Mar-99 | 01-Aug-00
LANGLEY | VA | DATA PROCESSING EQUIPMENT OPERATIONS | 15 | 04-Nov-99 | 15-Sep-00
LANGLEY | VA | TRANSIENT AIRCRAFT MAINTENANCE | 21 | 27-Aug-98 | 27-Aug-99
LANGLEY | VA | AIRCRAFT FLEET SERVICES | 11 | 29-Jun-99 | 15-Jun-00
MAXWELL | AL | EDUCATION SERVICES | 35 | 31-Jul-98 | 15-Jan-00
MCGUIRE | NJ | HEATING SYSTEMS | 6 | 04-May-99 | 31-Aug-00
MCGUIRE | NJ | FURNISHINGS MANAGEMENT | 2 | 14-May-99 | 05-Feb-00
MINOT | ND | ADMINISTRATIVE SWITCHBOARD | 6 | 07-Jan-99 | 20-Oct-99
MINOT | ND | GROUNDS MAINTENANCE | 9 | 18-May-99 | 23-Oct-00
MT HOME | ID | TRANSIENT AIRCRAFT MAINTENANCE | 7 | 27-Aug-98 | 29-Jul-99
MT HOME | ID | GROUNDS MAINTENANCE | 6 | 20-Jul-99 | 09-Jul-00
MULTIPLE INSTLNS |  | LINEN | 11 | 17-Jun-99 | 01-Mar-00
RAMSTEIN | GERMY
SPANGDAHLEM | GERMY
LAKENHEATH | UK
MILDENHALL | UK
NELLIS | NV | TRANSIENT AIRCRAFT MAINTENANCE/AEROSPACE GROUND EQUIPMENT | 18 | 27-Aug-98 | 09-Aug-99
NELLIS | NV | COMMUNICATION FUNCTIONS | 9 | 22-Dec-98 | 18-Nov-99
OFFUTT | NE | COMPUTER OPERATIONS | 76 | 17-Feb-99 | 30-Apr-00
PATRICK | FL | BASE WEATHER OBSERVING | 5 | 17-Mar-98 | 01-Jun-99
PATRICK | FL | RANGE MAINTENANCE | 31 | 19-May-98 | 28-May-99
PATRICK | FL | RANGE MAINTENANCE | 32 | 19-May-98 | 28-May-99
POPE | NC | FURNISHINGS MANAGEMENT | 1 | 07-Oct-98 | 17-Jan-00
PORTLAND | OR | ADMINISTRATIVE SWITCHBOARD | 2 | 22-Dec-98 | 18-Oct-99
RANDOLPH | TX | COURSEWARE DEVELOPMENT | 38 | 30-Sep-99 | TBD
ROBINS | GA | GENERAL LIBRARY | 6 | 23-Nov-99 | TBD
SCHRIEVER | CO | FOOD SERVICES | 18 | 02-Sep-99 | 01-Nov-00
SCOTT | IL | MISCELANEOUS ACTIVITIES | 2 | 18-Mar-99 | 13-Jan-00
SCOTT | IL | FURNISHINGS MANAGEMENT | 3 | 07-Aug-98 | 01-Jul-00
SHAW | SC | TRANSIENT AIRCRAFT MAINTENANCE | 11 | 28-Aug-98 | 16-Jul-99
SHAW | SC | COMMUNICATION FUNCTIONS | 3 | 18-May-99 | 09-May-00
SHAW | SC | LIBRARY | 7 | 27-Aug-98 | 25-Aug-99
TRAVIS | CA | FACILITIES SERVICES MAINTENANCE | 2 | 20-Apr-98 | 30-Jan-00
TRAVIS | CA | HEATING SYSTEMS | 5 | 20-Apr-98 | 30-Jan-00
VANDENBERG AFB | CA | MISSILE STORAGE & MAINTENANCE | 66 | 14-Apr-99 | 18-Dec-99
WHITEMAN | MO | ADMINISTRATIVE SWITCHBOARD | 9 | 22-Dec-98 | 03-Sep-99
WHITEMAN | MO | PROTECTIVE COATING | 8 | 06-Apr-99 | 21-Dec-99
WHITEMAN | MO | GROUNDS MAINTENANCE | 5 | 08-Dec-98 | 29-Sep-99
WHITEMAN | MO | HOSPITAL SERVICES | 2 | 17-Apr-98 | 17-Nov-98

Janet A. Long,
Air Force Federal Register Liaison Officer.

[FR Doc. 00-3945 Filed 2-17-00; 8:45 am]

BILLING CODE 5001-05-U